OFFICE OF PERSONNEL MANAGEMENT

5 CFR Part 532

[Docket ID: OPM-2024-0012]

RIN 3206-AO70

Prevailing Rate Systems; Abolishment of Calhoun, Alabama, as a Nonappropriated Fund Federal Wage System Wage Area

AGENCY: Office of Personnel Management.

ACTION: Final rule.

SUMMARY: The Office of Personnel Management (OPM) is issuing a final rule to abolish the Calhoun, Alabama (AL), nonappropriated fund (NAF) Federal Wage System (FWS) wage area and define Calhoun County, AL, to the Cobb, Georgia, NAF FWS wage area, and Jefferson County, AL, to the Madison, AL, NAF FWS wage area. These changes are necessary because NAF FWS employment in the survey area is now below the minimum criterion of 26 wage employees to maintain a wage area, and the local activities no longer have the capability to conduct local wage surveys.

DATES:

Effective date: This regulation is effective December 26, 2024.

Applicability date: This change applies on the first day of the first applicable pay period beginning on or after December 26, 2024.

FOR FURTHER INFORMATION CONTACT: Ana Paunoiu, by telephone at (202) 606-2858 or by email at paypolicy@opm.gov.

SUPPLEMENTARY INFORMATION: On May 30, 2024, OPM issued a proposed rule (89 FR 46830) to abolish the Calhoun, AL, NAF FWS wage area and define Calhoun County, AL, to the Cobb, GA, NAF FWS wage area, and Jefferson County, AL, to the Madison, AL, NAF FWS wage area. The Federal Prevailing Rate Advisory Committee, the national labor-management committee responsible for advising OPM on matters concerning the pay of FWS employees, reviewed and recommended these changes by consensus.

The proposed rule had a 30-day comment period, during which OPM received no comments. Therefore, this final rule adopts the proposed rule at 89 FR 46830 without change.

Expected Impact of This Rule

Section 5343 of title 5, U.S. Code, provides OPM with the authority and responsibility to define the boundaries of NAF FWS wage areas. Any changes in wage area definitions can have the long-term effect of increasing pay for Federal employees in affected locations. OPM expects this final rule to impact approximately 21 NAF FWS employees. Considering the small number of employees affected, OPM does not anticipate this rule will substantially impact local economies or have a large impact in local labor markets. As this and future wage area changes may impact higher volumes of employees in geographical areas and could rise to the level of impacting local labor markets, OPM will continue to study the implications of such impacts in this or future rules as needed.

Regulatory Review

Executive Orders 13563, 12866, and 14094 direct agencies to assess all costs and benefits of available regulatory alternatives and, if regulation is necessary, to select regulatory approaches that maximize net benefits (including potential economic, environmental, public health and safety effects, distributive impacts, and equity). This rule is not a “significant regulatory action” under the provisions of Executive Order 14094 and, therefore, was not reviewed by OMB.

Regulatory Flexibility Act

The Acting Director of OPM certifies that this rule will not have a significant economic impact on a substantial number of small entities.

Federalism

OPM has examined this rule in accordance with Executive Order 13132, Federalism, and have determined that this rule will not have any negative impact on the rights, roles and responsibilities of State, local, or tribal governments.

Civil Justice Reform

This rule meets the applicable standard set forth in Executive Order 12988.

Unfunded Mandates Act of 1995

Section 202 of the Unfunded Mandates Reform Act of 1995 (UMRA) requires that agencies assess anticipated costs and benefits before issuing any rule that would impose spending costs on State, local, or tribal governments in the aggregate, or on the private sector, in any 1 year of $100 million in 1995 dollars, updated annually for inflation. That threshold is currently approximately $183 million. This rule will not result in the expenditure by State, local, or tribal governments, in the aggregate, or by the private sector, in excess of the threshold. Thus, no written assessment of unfunded mandates is required.

Congressional Review Act

OMB's Office of Information and Regulatory Affairs has determined this rule does not satisfy the criteria listed in 5 U.S.C. 804(2).

Paperwork Reduction Act

This rule does not impose any reporting or record-keeping requirements subject to the Paperwork Reduction Act.

List of Subjects in 5 CFR Part 532

Administrative practice and procedure, Freedom of information, Government employees, Reporting and recordkeeping requirements, Wages.

Office of Personnel Management.
Kayyonne Marston,
Federal Register Liaison.

Accordingly, OPM is amending 5 CFR part 532 as follows:

PART 532—PREVAILING RATE SYSTEMS

1. The authority citation for part 532 continues to read as follows:

Authority: 5 U.S.C. 5343, 5346; § 532.707 also issued under 5 U.S.C. 552.

2. In appendix D to subpart B, amend the table by revising the wage area listing for the States of Alabama and Georgia to read as follows:

Appendix D to Subpart B of Part 532—Nonappropriated Fund Wage and Survey Areas

Definitions of Wage Areas and Wage Area Survey Areas
* * * * *
ALABAMA
Madison
Survey Area
Alabama:
Madison
Area of Application. Survey area plus:
Alabama:
Jefferson
Tennessee:
Coffee
Davidson
Hamilton
Rutherford
Montgomery
Survey Area
Alabama:
Montgomery
Area of Application. Survey area plus:
Alabama:
Dale
Dallas
Macon
* * * * *
GEORGIA
Chatham
Survey Area
Georgia:
Chatham
Area of Application. Survey area plus:
Georgia:
Glynn
Liberty
South Carolina:
Beaufort
Cobb
Survey Area
Georgia:
Cobb
Area of Application. Survey area plus:
Alabama:
Calhoun
Georgia:
Bartow
De Kalb
Fulton
Columbus
Survey Area
Georgia:
Columbus
Area of Application. Survey area plus:
Georgia:
Chattahoochee
Dougherty
Survey Area
Georgia:
Dougherty
Area of Application. Survey area.
HOUSTON
Survey Area
Georgia:
Houston
Area of Application. Survey area plus:
Georgia:
Laurens
Lowndes
Survey Area
Georgia:
Lowndes
Area of Application. Survey area plus:
Florida:
Leon
Richmond
Survey Area
Georgia:
Richmond
Area of Application. Survey area plus:
South Carolina:
Aiken

* * * * *

[FR Doc. 2024-27662 Filed 11-25-24; 8:45 am]

BILLING CODE 6325-39-P